DEPARTMENT OF ENERGY

Federal Energy Regulatory Commission

Combined Notice of Filings #1

Take notice that the Commission received the following electric corporate filings:

Docket Numbers: EC25-101-000.

Applicants: Vandolah Power Company L.L.C., Florida Power & Light Company.

Description: Joint Application for Authorization Under Section 203 of the Federal Power Act of Vandolah Power Company L.L.C. et al.

Filed Date: 6/11/25.

Accession Number: 20250611-5261.

Comment Date: 5 pm ET 8/11/25.

Take notice that the Commission received the following exempt wholesale generator filings:

Docket Numbers: EG25-352-000.

Applicants: Ventasso Energy Storage, LLC.

Description: Ventasso Energy Storage, LLC submits Notice of Self-Certification of Exempt Wholesale Generator Status.

Filed Date: 6/12/25.

Accession Number: 20250612-5093.

Comment Date: 5 pm ET 7/3/25.

Take notice that the Commission received the following electric rate filings:

Docket Numbers: ER11-3323-001.

Applicants: LSP University Park, LLC.

Description: Compliance filing: Informational Filing Regarding Upstream Transfer of Ownership to be effective N/A.

Filed Date: 6/11/25.

Accession Number: 20250611-5208.

Comment Date: 5 pm ET 7/2/25.

Docket Numbers: ER16-498-002; ER16-499-002; ER16-500-002; ER14-41-003; ER14-42-003.

Applicants: RE Rosamond Two LLC, RE Rosamond One LLC, RE Mustang 4 LLC, RE Mustang 3 LLC, RE Mustang LLC.

Description: Notice of Non-Material Change in Status of RE Mustang LLC, et al.

Filed Date: 6/7/19.

Accession Number: 20190607-5164.

Comment Date: 5 pm ET 7/3/25.

Docket Numbers: ER17-1498-006.

Applicants: Rockford Power II, LLC.

Description: Compliance filing: Informational Filing Regarding Upstream Transfer of Ownership to be effective N/A.

Filed Date: 6/11/25.

Accession Number: 20250611-5212.

Comment Date: 5 pm ET 7/2/25.

Docket Numbers: ER17-1499-006.

Applicants: Rockford Power, LLC.

Description: Compliance filing: Informational Filing Regarding Upstream Transfer of Ownership to be effective N/A.

Filed Date: 6/11/25.

Accession Number: 20250611-5211.

Comment Date: 5 pm ET 7/2/25.

Docket Numbers: ER17-1661-001.

Applicants: Troy Energy, LLC.

Description: Compliance filing: Informational Filing Regarding Upstream Transfer of Ownership to be effective N/A.

Filed Date: 6/11/25.

Accession Number: 20250611-5214.

Comment Date: 5 pm ET 7/2/25.

Docket Numbers: ER17-1743-004.

Applicants: Doswell Limited Partnership.

Description: Compliance filing: Informational Filing Regarding Upstream Transfer of Ownership to be effective N/A.

Filed Date: 6/11/25.

Accession Number: 20250611-5215.

Comment Date: 5 pm ET 7/2/25.

Docket Numbers: ER17-1976-001.

Applicants: Helix Ironwood, LLC.

Description: Compliance filing: Informational Filing Regarding Upstream Transfer of Ownership to be effective N/A.

Filed Date: 6/11/25.

Accession Number: 20250611-5206.

Comment Date: 5 pm ET 7/2/25.

Docket Numbers: ER18-647-004.

Applicants: Gans Energy, LLC.

Description: Compliance filing: Informational Filing Regarding Upstream Transfer of Ownership to be effective N/A.

Filed Date: 6/11/25.

Accession Number: 20250611-5203.

Comment Date: 5 pm ET 7/2/25.

Docket Numbers: ER18-648-004.

Applicants: Springdale Energy, LLC.

Description: Compliance filing: Informational Filing Regarding Upstream Transfer of Ownership to be effective N/A.

Filed Date: 6/11/25.

Accession Number: 20250611-5213.

Comment Date: 5 pm ET 7/2/25.

Docket Numbers: ER20-263-004.

Applicants: Doswell Limited Partnership.

Description: Compliance filing: Informational Filing Regarding Upstream Transfer of Ownership to be effective N/A.

Filed Date: 6/11/25.

Accession Number: 20250611-5198.

Comment Date: 5 pm ET 7/2/25.

Docket Numbers: ER25-2493-000.

Applicants: Meadow Lake Wind Farm IV LLC.

Description: Petition of Meadow Lake Wind Farm IV LLC for Limited Waiver and Expedited Action.

Filed Date: 6/10/25.

Accession Number: 20250610-5232.

Comment Date: 5 pm ET 6/20/25.

Docket Numbers: ER25-2494-000.

Applicants: Doswell Limited Partnership.

Description: Compliance filing: Informational Filing Regarding Upstream Transfer of Ownership to be effective 6/12/2025.

Filed Date: 6/11/25.

Accession Number: 20250611-5199.

Comment Date: 5 pm ET 7/2/25.

Docket Numbers: ER25-2495-000.

Applicants: Riverside Generating Company, L.L.C.

Description: Compliance filing: Informational Filing Regarding Upstream Transfer of Ownership to be effective 6/12/2025.

Filed Date: 6/11/25.

Accession Number: 20250611-5210.

Comment Date: 5 pm ET 7/2/25.

Docket Numbers: ER25-2496-000.

Applicants: University Park Energy, LLC.

Description: Compliance filing: Informational Filing Regarding Upstream Transfer of Ownership to be effective 6/12/2025.

Filed Date: 6/11/25.

Accession Number: 20250611-5216.

Comment Date: 5 pm ET 7/2/25.

Docket Numbers: ER25-2497-000.

Applicants: NedPower Mount Storm LLC.

Description: Request for Limited Waiver of NedPower Mount Storm LLC.

Filed Date: 6/11/25.

Accession Number: 20250611-5222.

Comment Date: 5 pm ET 7/2/25.

Docket Numbers: ER25-2499-000.

Applicants: PJM Interconnection, L.L.C.

Description: § 205(d) Rate Filing: Amendment to ISA, SA No. 6757; Queue No. AE2-175 (amend) to be effective 8/12/2025.

Filed Date: 6/12/25.

Accession Number: 20250612-5027.

Comment Date: 5 pm ET 7/3/25.

Docket Numbers: ER25-2500-000.

Applicants: Versant Power.

Description: § 205(d) Rate Filing: Wholesale Distribution Tariff—Bangor Hydro District System to be effective 8/12/2025.

Filed Date: 6/12/25.

Accession Number: 20250612-5037.

Comment Date: 5 pm ET 7/3/25.

Docket Numbers: ER25-2501-000.

Applicants: PJM Interconnection, L.L.C.

Description: § 205(d) Rate Filing: Original NSA, SA No. 7699; Queue No. AF1-014 to be effective 8/12/2025.

Filed Date: 6/12/25.

Accession Number: 20250612-5039.

Comment Date: 5 pm ET 7/3/25.

Docket Numbers: ER25-2502-000.

Applicants: Versant Power.

Description: Compliance filing: Order No. 1920 Compliance Filing to be effective 1/1/2026.

Filed Date: 6/12/25.

Accession Number: 20250612-5075.

Comment Date: 5 pm ET 7/3/25.

Docket Numbers: ER25-2503-000.

Applicants: PJM Interconnection, L.L.C.

Description: § 205(d) Rate Filing: Amendment to ISA, Service Agreement No. 6108; Queue Position No. AE1-183 to be effective 8/12/2025.

Filed Date: 6/12/25.

Accession Number: 20250612-5104.

Comment Date: 5 pm ET 7/3/25.

Docket Numbers: ER25-2504-000.

Applicants: Dry Lake East Energy Center, LLC.

Description: § 205(d) Rate Filing: Application for Market-Based Rate Authorization—Dry Lake EEC, LLC to be effective 8/10/2025.

Filed Date: 6/12/25.

Accession Number: 20250612-5126.

Comment Date: 5 pm ET 7/3/25.

Docket Numbers: ER25-2505-000.

Applicants: St. Landry Solar, LLC.

Description: § 205(d) Rate Filing: Application for Market-Based Rate Authorization—St. Landry Solar, LLC to be effective 8/12/2025.

Filed Date: 6/12/25.

Accession Number: 20250612-5129.

Comment Date: 5 pm ET 7/3/25.

Docket Numbers: ER25-2506-000.

Applicants: Weirs Creek Solar, LLC.

Description: § 205(d) Rate Filing: Application for Market-Based Rate Authorization—Weirs Creek Solar, LLC to be effective 8/12/2025.

Filed Date: 6/12/25.

Accession Number: 20250612-5130.

Comment Date: 5 pm ET 7/3/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: June 12, 2025.
Carlos D. Clay,
Deputy Secretary.

[FR Doc. 2025-11163 Filed 6-16-25; 8:45 am]

BILLING CODE 6717-01-P